DEPARTMENT OF DEFENSE

GENERAL SERVICES ADMINISTRATION

NATIONAL AERONAUTICS AND SPACE ADMINISTRATION

48 CFR Parts 2, 7, 12, 46, and 52

[FAR Case 2013-002; Docket No. 2013-0002; Sequence No. 1]

RIN 9000-AM58

Federal Acquisition Regulation; Expanded Reporting of Nonconforming Items; Extension of Comment Period

AGENCY: Department of Defense (DoD), General Services Administration (GSA), and National Aeronautics and Space Administration (NASA).

ACTION: Proposed rule; extension of comment period.

SUMMARY: DoD, GSA, and NASA are proposing to amend the Federal Acquisition Regulation (FAR) to require expanded reporting of nonconforming items. The comment period is being extended to provide additional time for interested parties to review the FAR changes of FAR Case 2013-002; Expanded Reporting of Nonconforming Items to September 10, 2014.

DATES: Interested parties should submit written comments to the Regulatory Secretariat at one of the addressees shown below on or before September 10, 2014 to be considered in the formation of the final rule.

ADDRESSES: Submit comments in response to FAR Case 2013-002 by any of the following methods:

• Regulations.gov: http://www.regulations.gov. Submit comments via the Federal eRulemaking portal by searching for “FAR Case 2013-002”. Select the link “Comment Now” that corresponds with “FAR Case 2013-002.” Follow the instructions provided at the “Comment Now” screen. Please include your name, company name (if any), and “FAR Case 2013-002” on your attached document.

• Fax: 202-501-4067.

• Mail: General Services Administration, Regulatory Secretariat (MVCB), ATTN: Hada Flowers, 1800 F Street NW., 2nd Floor, Washington, DC 20405.

Instructions: Please submit comments only and cite FAR Case 2013-002, in all correspondence related to this case. All comments received will be posted without change to http://www.regulations.gov, including any personal and/or business confidential information provided.

FOR FURTHER INFORMATION CONTACT: Ms. Marissa Petrusek, Procurement Analyst, at 202-501-0136, for clarification of content. For information pertaining to status or publication schedules, contact the Regulatory Secretariat at 202-501-4755. Please cite FAR Case 2013-002.

SUPPLEMENTARY INFORMATION:

I. Background

DoD, GSA, and NASA published a proposed rule in the Federal Register at 79 FR 33164, June 10, 2014. The comment period is extended to provide additional time for interested parties to review and submit comments on the published FAR changes until September 10, 2014.

List of Subjects in 48 CFR Parts 2, 7, 12, 46, and 52

Government procurement.

Dated: August 6, 2014.
William Clark,
Acting Director, Office of Government-wide Acquisition Policy, Office of Acquisition Policy, Office of Government-wide Policy.

[FR Doc. 2014-18974 Filed 8-8-14; 8:45 am]

BILLING CODE 6820-EP-P